DEPARTMENT OF DEFENSE

Office of the Secretary

U.S. Strategic Command Strategic Advisory Group

AGENCY: Department of Defense, USSTRATCOM.

ACTION: Notice of closed meeting.

SUMMARY: The Strategic Advisory Group (SAG) will meet in closed session on 8-10 May 2007. The mission of the SAG is to provide timely advice on scientific, technical, intelligence, and policy-related issues to the Commander, U.S. Strategic Command, during the development of the Nation's strategic war plans. Full development of the topics will require discussion of information classified in accordance with Executive Order 12958, dated April 17, 1995. Access to this information must be strictly limited to personnel having requisite security clearances and specific need-to-know. Unauthorized disclosure of the information to be discussed at the SAG meeting could have exceptionally grave impact upon national defense.

In accordance with Section 10(d) of the Federal Advisory Committee Act (5 U.S.C. App.), it has been determined that this SAG meeting concerns matters listed in 5 U.S.C. Section 552b(c)(1), and that, accordingly, this meeting will be closed to the public.

DATES: 8-10 May 2007.

LOCATION: Offutt AFB, NE 68113-6030.

FOR FURTHER INFORMATION CONTACT: Mr. Bruce Sudduth, USSTRATCOM/J030, (402) 294-4102.

SUPPLEMENTARY INFORMATION: Mr. Floyd March, Joint Staff, (703) 697-0610.

Dated: April 4, 2007.
L.M. Bynum,
Alternate OSD Federal Register Liaison Officer, DoD.

[FR Doc. 07-1754 Filed 4-9-07; 8:45 am]

BILLING CODE 5001-06-M